DEPARTMENT OF COMMERCE

International Trade Administration

[A-570-831]

Fresh Garlic From the People's Republic of China: Final Results of the Changed Circumstances Review

AGENCY: Enforcement and Compliance, International Trade Administration, Department of Commerce.

SUMMARY: On June 30, 2015, the Department of Commerce (Department) published a notice of preliminary results of a changed circumstance review (CCR) of the antidumping duty (AD) order on fresh garlic from the People's Republic of China (PRC) ¹ in response to a request from Jining Yongjia Trade Co., Ltd. (Yongjia), an exporter of fresh and peeled garlic from the PRC.² Yongjia requested that the Department determine that Jinxiang County Shanfu Frozen Co., Ltd. (Shanfu II), Yongjia's supplier of garlic, is the successor-in-interest to Yongjia's garlic supplier (Shanfu I) during its new shipper review (NSR). In the Preliminary Results, the Department found that Shanfu II is not the successor-in-interest to Shanfu I, and, as such, is subject to the PRC-wide entity cash deposit rate with respect to entries of subject merchandise. Based on our analysis of the comments from the parties, we continue to find that Shanfu II is not the successor-in-interest to Shanfu I for these final results.

¹ See Antidumping Duty Order: Fresh Garlic from the People's Republic of China, 59 FR 59209 (November 16, 1994) (Order).

² See Fresh Garlic from the People's Republic of China: Preliminary Results of the Changed Circumstances Review of Jining Yongjia Trade Co., Ltd. and Jinxiang County Shanfu Frozen Co., Ltd., 80 FR 37222 (June 30, 2015) (Preliminary Results).

DATES: Effective September 24, 2015.

FOR FURTHER INFORMATION CONTACT: Hilary E. Sadler, Esq., AD/CVD Operations, Office VII, Enforcement and Compliance, International Trade Administration, U.S. Department of Commerce, 14th Street and Constitution Avenue NW., Washington, DC 20230; telephone: (202) 482-4340.

SUPPLEMENTARY INFORMATION:

Background

For a complete description of the events following the publication of the Preliminary Results, see the Issues and Decision Memorandum.³ The Issues and Decision Memorandum is a public document and is on file electronically via Enforcement and Compliance's AD and Countervailing Duty (CVD) Centralized Electronic Service System (ACCESS). ACCESS is available to registered users at http://access.trade.gov and in the Central Records Unit, room B8024 of the main Department of Commerce building. In addition, a complete version of the Issues and Decision Memorandum can be accessed directly at http://enforcement.trade.gov/frn/index.html. The signed Issues and Decision Memorandum and the electronic version of the Issues and Decision Memorandum are identical in content.

³ See Memorandum from Christian Marsh, Deputy Assistant Secretary for Antidumping and Countervailing Duty Operations, to Ronald K. Lorentzen, Acting Assistant Secretary for Enforcement and Compliance, regarding “Decision Memorandum for the Final Results of the Antidumping Duty Changed Circumstances Review of Fresh Garlic from the People's Republic of China: Jining Yongjia Trade Co., Ltd. and Jinxiang County Shanfu Frozen Co., Ltd.,” dated concurrently with and adopted by this notice (Issues and Decision Memorandum).

Scope of the Order

The products covered by the order are all grades of garlic, whole or separated into constituent cloves, whether or not peeled, fresh, chilled, frozen, water or other neutral substance, but not prepared or preserved by the addition of other ingredients or heat processing. The subject garlic is currently classifiable under subheadings: 0703.20.0000, 0703.20.0010, 0703.20.0015, 0703.20.0020, 0703.20.0090, 0710.80.7060, 0710.80.9750, 0711.90.6000, 0711.90.6500, 2005.90.9500, 2005.90.9700, 2005.99.9700, and of the Harmonized Tariff Schedule of the United States (HTSUS). While the HTSUS subheadings are provided for convenience and customs purposes, the written description of the scope of the order is dispositive. A full description of the scope of the order is contained in the Issues and Decision Memorandum.

Analysis of Comments Received

All issues raised by the parties in the case briefs are addressed in the Issues and Decision Memorandum. A list of the issues addressed in the Issues and Decision Memorandum is appended to this notice.

Final Results of Changed Circumstances Review

Upon review of the comments received, the Department has determined that Shanfu II operates in most material respects as a different business entity than Shanfu I, as discussed in the Preliminary Results and the Issues and Decision Memorandum. Furthermore, Shanfu I officially and effectively ceased to operate for two years, having dissolved and de-registered in 2012. Therefore, the Department adopts the Preliminary Results and finds that Shanfu II is not the successor-in-interest to Shanfu I.

Instructions to U.S. Customs and Border Protection

As a result of this determination, the Department finds that Yongjia and Shanfu II are subject to the cash deposit rate currently assigned to the PRC-wide entity with respect to the subject merchandise, i.e., $4.71 per kilogram.⁴ Consequently, the Department will instruct U.S. Customs and Border Protection to continue suspension of liquidation and to collect estimated antidumping duties for all shipments of subject merchandise produced by Shanfu II and exported by Yongjia at the current cash deposit rate assigned to the PRC-wide entity of $4.71 per kilogram.⁵ This cash deposit requirement shall remain in effect until further notice.

⁴ See Fresh Garlic from the People's Republic of China: Final Results and Partial Rescission of the 19th Antidumping Administrative Review, 80 FR 34141 (June 15, 2015).

⁵ Id.

Notification to Parties

This notice is the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing these final results in accordance with sections 751(b)(1) and 777(i)(1) and (2) of the Act, and 19 CFR 351.216.

Dated: September 14, 2015.
Ronald K. Lorentzen,
Acting Assistant Secretary for Enforcement and Compliance.

Appendix—List of Topics Discussed in the Preliminary Decision Memorandum

I. Summary

II. Background

III. Scope of the Order

IV. Discussion of the Issues in Successor-in-Interest

1. Changes in Ownership and Management

2. Production Facilities and Equipment

3. Supplier Relationships

4. Customer Base

5. Dissolution

6. Change in Corporate Form

7. Expansion of Business Scope

V. Summary of Findings

VI. Recommendation

[FR Doc. 2015-23646 Filed 9-23-15; 8:45 am]

BILLING CODE 3510-DS-P